DEPARTMENT OF JUSTICE

Drug Enforcement Administration

[DEA # 201F]

Controlled Substances: 2000 Aggregate Production Quota

AGENCY: Drug Enforcement Administration (DEA), Department of Justice.

ACTION: Notice of the revised 2000 aggregate production quota for marihuana.

SUMMARY: This notice establishes a revised 2000 aggregate production quota for marihuana, a Schedule I controlled substance in the Controlled Substances Act (CSA).

EFFECTIVE DATE: November 17, 2000.

FOR FURTHER INFORMATION CONTACT: Frank L. Sapienza, Chief, Drug & Chemical Evaluation Section, Drug Enforcement Administration, Washington, DC 20537, Telephone: (202) 307-7183.

SUPPLEMENTARY INFORMATION: Section 306 of the CSA (21 U.S.C. 826) requires that the Attorney General establish aggregate production quotas for each basic class of controlled substance listed in Schedules I and II. This responsibility has been delegated to the Administrator of the DEA by Section 0.100 of Title 28 of the Code of Federal Regulations. The Administrator, in turn, has redelegated this function to the Deputy Administrator, pursuant to Section 0.104 of Title 28 of the Code of Federal Regulations.

On September 18, 2000, notice of a proposed revision to the 2000 aggregate production quota for marihuana was published in the Federal Register (65 FR 56328). All interested persons were invited to comment on or object to this proposed aggregate production quota on or before October 3, 2000.

The DEA did not receive any comments on the proposed revision. As such, the DEA has determined that the proposed 2000 aggregate production quota for marihuana is sufficient for the estimated scientific, research and development requirements.

Therefore, under the authority vested in the Attorney General by Section 306 of the CSA of 1970 (21 U.S.C. 826), delegated to the Administrator of the DEA by Section 0.100 of Title 28 of the Code of Federal Regulations, and redelegated to the Deputy Administrator pursuant to Section 0.104 of Title 28 of the Code of Federal Regulations, the Deputy Administrator hereby orders the following revision to the 2000 aggregate production quota for the listed controlled substance, expressed in grams of manicured material (i.e. leaves, flowering tops, and seeds):

Basic class | Established revised 2000 aggregate production quota
Marihuana | 350,000

The Office of Management and Budget has determined that notices of aggregate production quotas are not subject to centralized review under Executive Order 12866. This action has been analyzed in accordance with the principles and criteria contained in Executive Order 13132, and it has been determined that this matter does not have sufficient federalism implications to warrant the preparation of a Federalism Assessment.

The Deputy Administrator hereby certifies that this action will have no significant impact upon small entities whose interests must be considered under the Regulatory Flexibility Act, 5 U.S.C. 601 et seq. The establishment of aggregate production quotas for Schedules I and II controlled substances is mandated by law and by international treaty obligations. The quotas are necessary to provide for the estimated medical, scientific, research and industrial needs of the United States, for export requirements and the establishment and maintenance of reserve stocks. While aggregate production quotas are of primary importance to large manufacturers, their impact upon small entities is neither negative nor beneficial. Furthermore, this action involves only one basic class of controlled substances. Accordingly, the Deputy Administrator has determined that this action does not require a regulatory flexibility analysis.

Dated: November 7, 2000.
Julio F. Mercado,
Deputy Administrator.

[FR Doc. 00-29440 Filed 11-16-00; 8:45 am]

BILLING CODE 4410-09-M